DEPARTMENT OF ENERGY

Federal Energy Regulatory Commission

Combined Notice of Filings #1

Take notice that the Commission received the following electric rate filings:

Docket Numbers: ER10-3297-007.

Applicants: Powerex Corp.

Description: Notice of Non-Material Change in Status of Powerex Corp.

Filed Date: 10/30/15.

Accession Number: 20151030-5475.

Comments Due: 5 p.m. ET 11/20/15.

Docket Numbers: ER14-2553-003.

Applicants: Southwest Power Pool, Inc.

Description: Compliance filing: Long-Term Congestion Rights Compliance Filing in ER14-2553 to be effective 2/1/2015.

Filed Date: 10/30/15.

Accession Number: 20151030-5441.

Comments Due: 5 p.m. ET 11/20/15.

Docket Numbers: ER16-211-000.

Applicants: Pacific Gas and Electric Company.

Description: Section 205(d) Rate Filing: Quarterly Filing of City and County of San Francisco's WDT SA 275 for Q3 2015 to be effective 1/1/2016.

Filed Date: 10/30/15.

Accession Number: 20151030-5432.

Comments Due: 5 p.m. ET 11/20/15.

Docket Numbers: ER16-212-000.

Applicants: Black Hills/Colorado Electric Utility Company, LP.

Description: Section 205(d) Rate Filing: Joint Dispatch Transmission Service to be effective 1/1/2016.

Filed Date: 10/30/15.

Accession Number: 20151030-5439.

Comments Due: 5 p.m. ET 11/20/15.

Docket Numbers: ER16-213-000.

Applicants: Midcontinent Independent System Operator, Inc.

Description: Section 205(d) Rate Filing: 2015-10-30 RSG/RNU Netting Filing to be effective 1/15/2016.

Filed Date: 10/30/15.

Accession Number: 20151030-5440.

Comments Due: 5 p.m. ET 11/20/15.

Docket Numbers: ER16-214-000.

Applicants: New England Power Pool Participants Committee.

Description: Section 205(d) Rate Filing: 128th Agreement to be effective 11/1/2015.

Filed Date: 10/30/15.

Accession Number: 20151030-5444.

Comments Due: 5 p.m. ET 11/20/15.

Docket Numbers: ER16-215-000.

Applicants: Entergy Louisiana, LLC.

Description: Baseline eTariff Filing: Notice of Succession—System Agreement to be effective 10/30/2015.

Filed Date: 10/30/15.

Accession Number: 20151030-5445.

Comments Due: 5 p.m. ET 11/20/15.

Docket Numbers: ER16-216-000.

Applicants: New York State Electric & Gas Corporation.

Description: Section 205(d) Rate Filing: NYSEG-DCEC Attachment C Annual update to be effective 1/1/2016.

Filed Date: 10/30/15.

Accession Number: 20151030-5446.

Comments Due: 5 p.m. ET 11/20/15.

Docket Numbers: ER16-217-000.

Applicants: Black Hills/Colorado Electric Utility Company, LP.

Description: Section 205(d) Rate Filing: Joint Dispatch Agreement Concurrence Filing to be effective 1/1/2016.

Filed Date: 10/30/15.

Accession Number: 20151030-5448.

Comments Due: 5 p.m. ET 11/20/15.

Docket Numbers: ER16-218-000.

Applicants: Entergy Louisiana, LLC.

Description: Baseline eTariff Filing: Notice of Succession—Other to be effective 10/30/2015.

Filed Date: 10/30/15.

Accession Number: 20151030-5449.

Comments Due: 5 p.m. ET 11/20/15.

Docket Numbers: ER16-219-000.

Applicants: California Power Exchange Corporation.

Description: Section 205(d) Rate Filing: Rate Filing for Rate Period 28 to be effective 1/1/2016.

Filed Date: 11/2/15.

Accession Number: 20151102-5000.

Comments Due: 5 p.m. ET 11/23/15.

Docket Numbers: ER16-220-000.

Applicants: Entergy Louisiana, LLC.

Description: Section 205(d) Rate Filing: SRMPA 4th Extension of Interim Agreement to be effective 11/1/2015.

Filed Date: 11/2/15.

Accession Number: 20151102-5003.

Comments Due: 5 p.m. ET 11/23/15.

Docket Numbers: ER16-221-000.

Applicants: Entergy Louisiana, LLC.

Description: Compliance filing: ELL MBR Tariff to be effective 10/30/2015.

Filed Date: 11/2/15.

Accession Number: 20151102-5004.

Comments Due: 5 p.m. ET 11/23/15.

Docket Numbers: ER16-222-000.

Applicants: ISO New England Inc.

Description: ISO New England Inc. Resource Termination—Brookfield White Pine Hydro LLC.

Filed Date: 10/30/15.

Accession Number: 20151030-5473.

Comments Due: 5 p.m. ET 11/20/15.

Docket Numbers: ER16-223-000.

Applicants: ISO New England Inc.

Description: ISO New England Inc. Resource Termination—Twin Eagle Resource Management.

Filed Date: 10/30/15.

Accession Number: 20151030-5474.

Comments Due: 5 p.m. ET 11/20/15.

Docket Numbers: ER16-224-000.

Applicants: ISO New England Inc.

Description: ISO New England Inc. Resource Termination—Direct Energy Business Management.

Filed Date: 10/30/15.

Accession Number: 20151030-5477.

Comments Due: 5 p.m. ET 11/20/15.

Docket Numbers: ER16-225-000.

Applicants: ISO New England Inc.

Description: ISO New England Inc. Resource Termination of Enerwise Global Technologies, Inc.

Filed Date: 10/30/15.

Accession Number: 20151030-5478.

Comments Due: 5 p.m. ET 11/20/15.

Docket Numbers: ER16-226-000.

Applicants: ISO New England Inc.

Description: ISO New England Inc. Resource Termination—Green Mountain Power Corporation.

Filed Date: 10/30/15.

Accession Number: 20151030-5479.

Comments Due: 5 p.m. ET 11/20/15.

Docket Numbers: ER16-227-000.

Applicants: Entergy Arkansas, Inc., Entergy Louisiana, LLC, Entergy Mississippi, Inc., Entergy New Orleans, Inc., Entergy Texas, Inc.

Description: Application of Entergy Services, Inc. on behalf of Entergy Arkansas, Inc., et al. to use current Intangible Plant amortization rates and updated depreciation rates for Transmission Plant and General Plant in transmission formula rates.

Filed Date: 10/30/15.

Accession Number: 20151030-5497.

Comments Due: 5 p.m. ET 11/20/15.

Docket Numbers: ER16-228-000.

Applicants: Southwest Power Pool, Inc.

Description: Section 205(d) Rate Filing: 3113 Basin Electric and Montana-Dakota Utilities At AO to be effective 10/1/2015.

Filed Date: 11/2/15.

Accession Number: 20151102-5105.

Comments Due: 5 p.m. ET 11/23/15.

Take notice that the Commission received the following electric securities filings:

Docket Numbers: ES16-4-000.

Applicants: AEP Generating Company.

Description: Application Under Section 204 of the Federal Power Act for Authorization of AEP Generating Company to Issue Securities.

Filed Date: 10/30/15.

Accession Number: 20151030-5484.

Comments Due: 5 p.m. ET 11/20/15.

Docket Numbers: ES16-5-000.

Applicants: Baltimore Gas and Electric Company.

Description: Application of Baltimore Gas and Electric Company Under Section 204 of the Federal Power Act for Authorization of the Issuance Securities.

Filed Date: 10/30/15.

Accession Number: 20151030-5485.

Comments Due: 5 p.m. ET 11/20/15.

Docket Numbers: ES16-6-000.

Applicants: Commonwealth Edison Company.

Description: Application of Commonwealth Edison Company Under Section 204 of the Federal Power Act for Authorization of the Issuance Securities.

Filed Date: 10/30/15.

Accession Number: 20151030-5486.

Comments Due: 5 p.m. ET 11/20/15.

Docket Numbers: ES16-7-000.

Applicants: PECO Energy Company.

Description: Application of PECO Energy Company Under Section 204 of the Federal Power Act for Authorization of the Issuance Securities.

Filed Date: 10/30/15.

Accession Number: 20151030-5487.

Comments Due: 5 p.m. ET 11/20/15.

Take notice that the Commission received the following land acquisition reports:

Docket Numbers: LA15-3-000.

Applicants: AV Solar Ranch 1, LLC, Baltimore Gas and Electric Company, Beebe 1B Renewable Energy, LLC, Beebe Renewable Energy, LLC, Calvert Cliffs Nuclear Power Plant, LLC, Cassia Gulch Wind Park LLC, CER Generation, LLC, Commonwealth Edison Company, Constellation Energy Commodities Group Maine, LLC, Constellation Energy Services of New York, Inc, Constellation Energy Services, Inc., Constellation Mystic Power, LLC, Constellation NewEnergy, Inc., Constellation Power Source Generation, LLC, Cow Branch Wind Power, L.L.C., CR Clearing, LLC, Criterion Power Partners, LLC, Exelon Framingham, LLC, Exelon Generation Company, LLC, Exelon New Boston, LLC, Exelon West Medway, LLC, Exelon Wind 4, LLC, Exelon Wyman, LLC, Fair Wind Power Partners, LLC, Fourmile Wind Energy, LLC, Handsome Lake Energy, LLC, Harvest WindFarm, LLC, Harvest Windfarm II, LLC, High Mesa Energy, LLC, Michigan Wind 1, LLC, Michigan Wind 2, LLC, Nine Mile Point Nuclear Station, LLC, PECO Energy Company, R.E. Ginna Nuclear Power Plant, LLC, Shooting Star Wind Project, LLC, Tuana Springs Energy, LLC, Wind Capital Holdings, LLC, Wildcat Wind, LLC, 2014 ESA Project Company, LLC, 2015 ESA Project Company, LLC.

Description: Quarterly Land Acquisition Report of the Exelon MBR Entities, 2014 ESA Project Company, LLC and 2015 ESA Project Company, LLC.

Filed Date: 10/30/15.

Accession Number: 20151030-5481.

Comments Due: 5 p.m. ET 11/20/15.

Docket Numbers: LA15-3-000.

Applicants: Solar Star California XIII, LLC, Solar Star Colorado III, LLC.

Description: Quarterly Land Acquisition Report of the Solar Star Companies.

Filed Date: 10/30/15.

Accession Number: 20151030-5482.

Comments Due: 5 p.m. ET 11/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2015.
Nathaniel J. Davis, Sr.,
Deputy Secretary.

[FR Doc. 2015-28390 Filed 11-6-15; 8:45 am]

BILLING CODE 6717-01-P